AGENCY FOR INTERNATIONAL DEVELOPMENT

Notice of Public Information Collections

AGENCY: U.S. Agency for International Development.

ACTION: Notice of public information collections.

SUMMARY: The U.S. Agency for International Development (USAID) seeks Office of Management and Budget (OMB) approval for the information collection described below. In accordance with the Paperwork Reduction Act of 1995, USAID requests public comment on this collection from all interested individuals and organizations. This proposed information collection was published in the Federal Register on September 27, 2021, allowing for a 60-day public comment period. The purpose of this notice is to allow an additional 30 days for public comment. Comments are requested concerning whether the proposed collection of information is necessary for the proper performance of functions of the agency, including the practical utility of the information; the accuracy of USAID's estimate of the burden of the proposed collection of information; ways to enhance the quality, utility, and clarity of the information collected; and ways to minimize the burden of the collection of information on respondents.

DATES: Written comments and recommendations for the proposed information collection should be sent within 30 days of publication of this notice to www.reginfo.gov/public/do/PRAMain. Find this particular information collection by selecting “Currently under 30-day Review—Open for Public Comments” or by using the search function.

ADDRESSES: Interested persons are invited to submit comments regarding the proposed information collection to the Office of Information and Regulatory Affairs of OMB, Attention: Desk Officer for USAID.

FOR FURTHER INFORMATION CONTACT: Kristen Rancourt, at (202) 921-5119, or via email at krancourt@usaid.gov.

SUPPLEMENTARY INFORMATION: Notice regarding this proposed information collection was previously published at 86 FR 53264. No comments were received. The Agency did not address comments unrelated to, or outside the scope of, the notice at 86 FR 53264.

Overview of Information Collection

(1) Title of Information Collection: Training and Exchanges Automated Management System (TEAMS).

(2) Type of Review: New Information Collection.

(3) Purpose: USAID must collect information for reporting purposes to the Interagency Working Group (IAWG); Student and Exchange Visitor Information System (SEVIS) batch processing; and internal reporting and portfolio management.

(4) Method of Collection: Electronic.

(5) Respondents: Exchange Visitors as defined in ADS Chapter 252, Visa Compliance for Exchange Visitors.

(6) Estimated Number of Annual Responses: 1,500-2,000.

(7) Average Time per Response: 15 minutes.

(8) Estimated Annual Burden: 375-500 hours.

(9) Frequency: On occasion.

(10) Obligation to Respond: Required to obtain a benefit.

Susan C. Radford,
Management and Program Analyst, Bureau for Management, Office of Management Policy, Budget, and Performance, U.S. Agency for International Development.

[FR Doc. 2022-05032 Filed 3-9-22; 8:45 am]

BILLING CODE 6116-01-P